DEPARTMENT OF AGRICULTURE

Forest Service

Information Collection; Request for Comment; Visitor Permit and Visitor Registration Card

AGENCY: Forest Service, USDA.

ACTION: Notice; request for comment.

SUMMARY: In accordance with the Paperwork Reduction Act of 1995, the Forest Service is seeking comments from all interested individuals and organizations on the extension with no revision of a currently approved information collection, 0596-0019 (Visitor Permit and Visitor Registration Card).

DATES: Comments must be received in writing on or before December 24, 2012 to be assured of consideration. Comments received after that date will be considered to the extent practicable.

ADDRESSES: Comments concerning this notice should be addressed to Wilderness Program Manager; USDA Forest Service, Wilderness and Wild and Scenic River Staff; 1601 N. Kent Street, Arlington, VA 22209.

Comments also may be submitted via email to: sboutcher@fs.fed.us.

The public may inspect comments received at the Office of the Director, Wilderness and Wild and Scenic River Staff, 1601 N. Kent Street, Arlington, VA during normal business hours. Visitors are encouraged to call ahead to 202-205-9530 to facilitate entry to the building.

FOR FURTHER INFORMATION CONTACT: Steven Boutcher, Wilderness and Wild and Scenic River Staff at 802 656-1718 or sboutcher@fs.fed.us. Individuals who use telecommunication devices for the deaf (TDD) may call the Federal Relay Service (FRS) at 1-800-877-8339 twenty-four hours a day, every day of the year, including holidays.

SUPPLEMENTARY INFORMATION:

Title: Request for Comment; Visitor Permit and Visitor Registration Card.

OMB Number: 0596-0019.

Expiration Date of Approval: 05/31/2013.

Type of Request: Extension with No Revision.

Abstract: The Organic Administration Act (16 U.S.C. 473), the Wilderness Act (16 U.S.C. 1131), and Wild and Scenic Rivers Act (16 U.S.C. 1271) require the Forest Service, U.S. Department of Agriculture manage the forests to benefit both land and people. The information collected from the Visitor's Permit (FS-2300-30) and Visitor Registration Card (FS-2300-32) help the Forest Service ensure that visitors' use of National Forest System lands is in the public interest and is compatible with the mission of the Agency. Information will be collected from National Forest System land visitors, who will be asked to describe the location of their visit and their estimated duration of use.

The Visitor's Permit, Form FS-2300-3, is required for visitors to enter many special management areas on National Forest System Lands, including Wilderness Areas, Wild and Scenic Rivers, and restricted off-road vehicle areas. The permit is only used where public use levels must be managed and monitored to prevent resource damage, to preserve the quality of the experience, or to maintain public safety. The personal contact generated by issuance of the permit results in improved visitor education and information about proper camping techniques, fire prevention, safety, and sanitation. The information collected from the Visitor's Permit may also be used to respond to indicators or standards in a Forest Plan or Wilderness Management Plan. The Visitor's Permit captures the visitor's name and address, area to be visited, dates of visit, length of stay, method of travel, number of people, number of dogs and number of pack and saddle stock (that is, the number of animals either carrying people or their gear) in the group. The Visitor's Permit is usually issued by Forest Service employees at an office location. Visitors may obtain the permit in person or call ahead and provide the required information over the phone. The information collection does not involve the use of automated, electronic, mechanical, or other technological collection techniques.

The Visitor Registration Card, Form FS-2300-32, is a voluntary registration card, which provides Forest Service managers with an inexpensive means of gathering visitor use information required by management plans, without imposing mandatory visitor permit regulations. Moreover, the information collected can be used to respond to indicators or standards in a Forest Plan or Wilderness Management Plan without requiring a mandatory permit system to gather and record the data. Use of the Visitor Registration Card is one of the most efficient means of collecting data from visitors. It allows the Forest Service to collect data in remote locations, where it is not feasible to have permanent staffing. The Visitor Registration Card is normally made available at un-staffed entry locations such as trailheads, and is completed by the visitor without Forest Service assistance. The Visitor Registration Card provides information from wilderness and special management area visitors including name and address, area to be visited, dates of visit, length of stay, method of travel, number of people, number of dogs, number of pack and saddle stock (that is, the number of animals either carrying people or their gear) in the group, and number of watercraft or vehicles. The information is collected once from visitors during their visit and later gathered by Forest Service employees who then analyze the information.

The use of these two forms allows managers to identify heavily used areas, to prepare restoration, and to monitor plans that reflect where use is occurring, and in extreme cases, to develop plans to move forest users to lesser impacted areas. They also provide managers and search and rescue personnel with information useful in locating lost forest visitors. The inability to use these forms could result in overuse and site deterioration in some environmentally sensitive areas. Furthermore, without these forms, the Forest Service would be required to undertake special studies to collect use data and could be pressed to make management decisions based on insufficient or inaccurate data. The information collected will not be shared with other organizations inside or outside the government.

Please note the Forest Service is exploring the possibility of merging the burden associated with this OMB control number, 0596-0019, into the extension with revision Information Collection Request for OMB 0596-0106, Recreation Administration Permit and Fee Envelope, currently under OMB review.

Estimate of Annual Burden: 3 minutes (FS-2300-30), 3 minutes (FS-2300-32).

Type of Respondents: Individuals and groups requesting use of National Forest System Wilderness and special management areas.

Estimated Annual Number of Respondents: 517,500 respondents.

Estimated Annual Number of Responses per Respondent: 1.

Estimated Total Annual Burden on Respondents: 25,875 hours.

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: October 15, 2012.
James M. Peña,
Associate Deputy Chief, National Forest System.

[FR Doc. 2012-26246 Filed 10-24-12; 8:45 am]

BILLING CODE 3410-11-P